DEPARTMENT OF THE INTERIOR

Bureau of Land Management

[LLORP04000 L12320000.EA0000.LVRDOR090000.HAG12-0255]

Notice of Intent To Collect Fees on the John Day River, Oregon

AGENCY: Bureau of Land Management, Interior.

ACTION: Notice.

SUMMARY: Pursuant to applicable provisions of the Federal Lands Recreation Enhancement Act (REA), the Bureau of Land Management's (BLM) Prineville District Office is proposing to begin collecting fees for day and overnight trips (floats) on the Service Creek (River Mile 157) to Tumwater Falls (River Mile 10) stretch of the John Day River, between Service Creek, Oregon, and the confluence of the John Day River and the Columbia River, Oregon. The John Day River system was designated as a National Wild and Scenic River on October 28, 1988, and as a Special Area in the John Day Basin Resource Management Plan (February 2001).

DATES: To ensure that comments will be considered, the BLM must receive written comments on the proposal to collect fees by August 19, 2013. Effective 6 months after publication of this notice, the BLM's Prineville District Office will initiate fee collection between Service Creek and Tumwater Falls on the John Day River, unless the BLM publishes a Federal Register notice to the contrary.

ADDRESSES: You may submit comments on this fee collection proposal by any of the following methods:

• Email: BLM_OR_PR_JDRiver_Study@blm.gov with “fee proposal” in the title.

• Fax: (541) 416-6798.

• Mail: Chip Faver, BLM Central Oregon Field Manager, Prineville District Office, 3050 Northeast 3rd Street, Prineville, Oregon 97754.

Copies of the fee proposal are available at the BLM Prineville District Office at the above address and online at http://www.blm.gov/or/resources/recreation/johnday/boat-fee.php

FOR FURTHER INFORMATION CONTACT: Heidi Mottl, Recreation Planner, at the email or physical addresses above, or via phone at 541-416-6700. Persons who use a telecommunications device for the deaf (TDD) may call the Federal Information Relay Service (FIRS) at 1 (800) 877-8339 to contact the above individual during normal business hours. The FIRS is available 24 hours a day, 7 days a week, to leave a message or question with the above individual. You will receive a reply during normal business hours.

SUPPLEMENTARY INFORMATION: The Service Creek to Tumwater Falls stretch of the John Day River offers outstanding opportunities for overnight and day-use floating in a raft, drift boat, kayak, or canoe. The special area also provides access to high-quality, outdoor recreation opportunities (primarily fishing, sightseeing, hunting, camping, hiking, and swimming). Maintaining a naturally appearing recreation setting, a quality social setting, and enhancing the visitor experience on the river while protecting natural resources, requires substantial Federal investment. The BLM is committed to finding the proper balance between public use and the protection of resources.

Fee amounts will be posted on the BLM Prineville District Office Web site and at the Prineville District. Copies of the Fee Business Plan are available at the Prineville District Office, on the Prineville District Web site and the BLM Oregon State Office.

The BLM may collect fees in conjunction with a Special Recreation Permit (SRP) as required to manage visitor use, protect natural resources, and achieve the goals of the John Day Basin Resource Management Plan. The special area qualifies as a site wherein visitors can be charged a fee in conjunction with an SRP authorized under Section 803(h) of the REA, 16 U.S.C. 6802(h). In accordance with the REA and implementing regulations at 43 CFR part 2930, visitors would obtain an individual or group SRP to float within the Service Creek to Tumwater Falls stretch of the John Day River. All fees collected would be used for expenses within the river corridor.

The BLM's goal for the John Day River fee program is to ensure that funding is available to protect resources and outstanding remarkable recreation values, maintain the area in a naturally appearing condition consistent with the recreation setting established by the RMP, and enhance visitor services and safety, including expanding garbage services and improving the Clarno boat launch.

In 1998, the John Day River System was established as a fee area under the Recreational Fee Demonstration Program, and in 2010, the BLM completed the John Day River Study to establish boating use capacities on the river. In July 2012, the BLM published the John Day River Fee Business Plan (plan), which outlines the operational goals of the area and the purpose of the fee program. The plan provides management direction for public enjoyment of these public lands through the recreational experience of floating the river, while minimizing the potential for resource damage from authorized uses. The plan also provides a market analysis of local and comparable recreational experiences and sets the basis for the fee proposal. The plan is online at: http://www.blm.gov/or/resources/recreation/johnday/boat-fee.php.

The plan addresses recreation opportunities, the issuance of SRPs, and the charging of fees on a per-person per day or a per-person per launch basis. The John Day River Study and the plan, prepared pursuant to the REA and BLM recreation fee program policy, also address the establishment of a permit process and the collection of user fees. The plan articulates the rationale for charging recreation fees. In accordance with the BLM recreation fee program policy, the plan explains the fee-collection process and outlines how the fees would be used on the John Day River. The fee rates that would be charged have not yet been established, pending the mandatory review and recommendations of the John Day-Snake River Resource Advisory Committee (John Day-Snake RAC). Future adjustments in the fee amount would be made in accordance with the plan and through consultation with the John Day-Snake RAC and the public prior to a fee increase. Fee amounts will be posted onsite and online at the John Day River Web site at: http://www.blm.gov/or/resources/recreation/johnday/. Copies of the plan will be available at the BLM Prineville District Office and online at the John Day River site.

Before including your address, phone number, email address, or other personal identifying information in your comment, you should be aware that your entire comment—including your personal identifying information—may be made publicly available at any time. While you can ask us in your comment to withhold your personal identifying information from public review, we cannot guarantee that we will be able to do so.

Authority: 16 U.S.C. 6803(b) and 43 CFR 2932.13.

Carol Benkosky,
Prineville District Manager.

[FR Doc. 2013-17225 Filed 7-17-13; 8:45 am]

BILLING CODE 4310-33-P